DEPARTMENT OF COMMERCE

National Oceanic and Atmospheric Administration

[RTID 0648-XA040]

Marine Mammals and Endangered Species

AGENCY: National Marine Fisheries Service (NMFS), National Oceanic and Atmospheric Administration (NOAA), Commerce.

ACTION: Notice; issuance of permits, permit amendments, and permit modifications.

SUMMARY: Notice is hereby given that permits or permit amendments or modifications have been issued to the following entities under the Marine Mammal Protection Act (MMPA) and the Endangered Species Act (ESA), as applicable.

ADDRESSES: The permits and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Jennifer Skidmore (Permit No. 17305-01), Sara Young (Permit No. 22678), Shasta McClenahan (Permit No. 18638-01), Amy Hapeman (Permit No. 22281), Erin Markin (Permit No. 23200), and Malcolm Mohead (Permit Nos. 22671-01 and 23096); at (301) 427-8401.

SUPPLEMENTARY INFORMATION: Notices were published in the Federal Register on the dates listed below that requests for a permit or permit amendment had been submitted by the below-named applicants. To locate the Federal Register notice that announced our receipt of the application and a complete description of the research, go to www.federalregister.gov and search on the permit number provided in Table 1 below.

Table 1—Issued Permits, Permit Amendments, and Permit Modifications
Permit No. | RIN/RTID | Applicant | Previous Federal Register notice | Permit or amendment issuance date
17305-01 | 0648-XD52 | Alliance of Marine Mammal Parks and Aquariums, 218 N. Lee Street, Suite 200, Alexandria, VA 22314 (Responsible Party: Kathleen Dezio) | 80 FR 7419; February 10, 2015 | January 7, 2020.
18638-01 | 0648-XD52 | NMFS' Marine Mammal Laboratory, 7600 Sand Point Way NE, Seattle WA (Responsible Party: John Bengtson) | 80 FR 7419; February 10, 2015 | December 31, 2019.
22281 | 0648-PR-A002 | Kristen Hart, Ph.D., U.S. Geological Survey, Wetland and Aquatic Research Center, Davie Field Office, 3321 College Ave., Davie, FL 33314 | 84 FR 29503; June 24, 2019 | January 13, 2020.
22671-01 | 0648-XR072 | U.S. Geological Survey, Conte Anadromous Fish Research Laboratory, 1 Migratory Way, Tuner Falls, MA 01376 (Responsible Party: Adria Elskus) | 84 FR 67720; December 11, 2019 | January 31, 2020.
22678 | 0648-XR063 | NMFS' Marine Mammal Laboratory, 7600 Sand Point Way NE, Seattle WA (Responsible Party: John Bengtson) | 84 FR 57404; October 25, 2019 | December 20, 2019.
23096 | 0648-XR072 | University of Georgia, Warnell School of Forestry and Natural Resources, 180 E. Green Street, Athens, GA 30602 (Responsible Party: Dale Greene) | 84 FR 67720; December 11, 2019 | January 31, 2020.
23200 | 0648-XR072 | University of North Carolina, Wilmington, 601 South College Road, Wilmington, NC 28403 (Responsible Party: Frederick Scharf) | 84 FR 67720; December 11, 2019 | January 31, 2020.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in Section 2 of the ESA.

Authority: The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Dated: February 7, 2020.
Julia Marie Harrison,
Chief, Permits and Conservation Division, Office of Protected Resources, National Marine Fisheries Service.

[FR Doc. 2020-02792 Filed 2-11-20; 8:45 am]

BILLING CODE 3510-22-P